DEPARTMENT OF ENERGY

Federal Energy Regulatory Commission

[Docket No. CP19-488-000]

Columbia Gulf Transmission, LLC; Notice of Request for Extension of Time

Take notice that on July 22, 2022, Columbia Gulf Transmission, LLC (Columbia Gulf) requested that the Federal Energy Regulatory Commission (Commission) grant an extension of time (2022 Extension of Time Request), until December 31, 2022, to construct and place into service the facilities that were authorized in the original certificate authorization issued on September 17, 2020 (Certificate Order).¹ The Certificate Order authorized the Louisiana XPress Project (Project) and required Columbia Gulf to complete construction of the Project facilities and made them available for service by September 17, 2022.

¹ Columbia Gulf Transmission, LLC, 172 FERC ¶ 61,260 (2020).

Columbia Gulf states that unexpected settlement issues arose at the Chicot and Shelburn Compressor Stations (CS) during the final phases of construction, resulting in a delay of the previously anticipated Project in-service date of February 1, 2022. Columbia Gulf explains that, it has completed remediation activities at the Chicot CS and subsequently placed the Chicot CS into service and commenced flowing partial incremental Project volumes on July 1, 2022. Columbia Gulf states that, Columbia Gulf is working at the Shelburn CS to complete remediation activities and expect to complete construction and have a full in-service date between September 20, 2022 and November 1, 2022.

This notice establishes a 15-calendar day intervention and comment period deadline. Any person wishing to comment on Columbia Gulf's request for an extension of time may do so. No reply comments or answers will be considered. If you wish to obtain legal status by becoming a party to the proceedings for this request, you should, on or before the comment date stated below, file a motion to intervene in accordance with the requirements of the Commission's Rules of Practice and Procedure (18 CFR 385.214 or 385.211) and the Regulations under the Natural Gas Act (18 CFR 157.10).

As a matter of practice, the Commission itself generally acts on requests for extensions of time to complete construction for Natural Gas Act facilities when such requests are contested before order issuance. For those extension requests that are contested,² the Commission will aim to issue an order acting on the request within 45 days.³ The Commission will address all arguments relating to whether the applicant has demonstrated there is good cause to grant the extension.⁴ The Commission will not consider arguments that re-litigate the issuance of the certificate order, including whether the Commission properly found the project to be in the public convenience and necessity and whether the Commission's environmental analysis for the certificate complied with the National Environmental Policy Act.⁵ At the time a pipeline requests an extension of time, orders on certificates of public convenience and necessity are final and the Commission will not re-litigate their issuance.⁶ The OEP Director, or his or her designee, will act on all of those extension requests that are uncontested.

² Contested proceedings are those where an intervenor disputes any material issue of the filing. 18 CFR 385.2201(c)(1) (2019).

³ Algonquin Gas Transmission, LLC, 170 FERC ¶ 61,144, at P 40 (2020).

⁴ Id. at P 40.

⁵ Similarly, the Commission will not re-litigate the issuance of an NGA section 3 authorization, including whether a proposed project is not inconsistent with the public interest and whether the Commission's environmental analysis for the permit order complied with NEPA.

⁶ Algonquin Gas Transmission, LLC, 170 FERC ¶ 61,144, at P 40 (2020).

In addition to publishing the full text of this document in the Federal Register, The Commission provides all interested persons an opportunity to view and/or print the contents of this document via the internet through the Commission's Home Page (http://www.ferc.gov) using the “eLibrary” link. Enter the docket number excluding the last three digits in the docket number field to access the document. At this time, the Commission has suspended access to Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

The Commission strongly encourages electronic filings of comments, protests and interventions in lieu of paper using the “eFiling” link at http://www.ferc.gov. Persons unable to file electronically should submit an original and three copies of the protest or intervention to the Federal Energy Regulatory Commission, 888 First Street NE, Washington, DC 20426.

Comment Date: 5:00 p.m. Eastern Time on, August 10, 2022.

Dated: July 26, 2022.
Debbie-Anne A. Reese,
Deputy Secretary.

[FR Doc. 2022-16415 Filed 7-29-22; 8:45 am]

BILLING CODE 6717-01-P